DEPARTMENT OF ENERGY

Efficiency and Renewables Advisory Committee (ERAC)

AGENCY: Office of Energy Efficiency and Renewable Energy, Department of Energy

ACTION: Notice of open meeting.

SUMMARY: This notice announces an open meeting of the Efficiency and Renewables Advisory Committee (ERAC). The Federal Advisory Committee Act (Pub. L. 92-463, 86 Stat. 770) requires public notice of the meeting be announced in the Federal Register.

DATES: Thursday, April 19, 2012, 8 a.m.-3 p.m. (EST)

ADDRESSES: U.S. Department of Energy, Forrestal Building, Room 8E-089, 1000 Independence Avenue SW., Washington, DC 20585.

FOR FURTHER INFORMATION CONTACT: JoAnn Milliken, ERAC Designated Federal Officer, U.S. Department of Energy (DOE), Office of Energy Efficiency and Renewable Energy, 1000 Independence Ave. SW., Washington, DC, 20585. Email: erac@ee.doe.gov.

SUPPLEMENTARY INFORMATION:

Purpose of Meeting: To provide advice and recommendations to the Secretary of Energy on the research, development, demonstration, and deployment priorities within the field of energy efficiency and renewable energy.

Tentative Agenda: (Subject to change; updates will be posted on the web at: www.erac.energy.gov):

• EERE Strategic Plan

• EERE Impacts

• ERAC Planning

Public Participation: Members of the public are welcome to observe the business of the meeting and make oral statements during the specified period for public comment. The public comment period will take place between 2:30 p.m. and 3 p.m. the day of the meeting (Thursday, April 19, 2012). An early confirmation of attendance will help facilitate access to the building more quickly. To attend the meeting and/or to make oral statements regarding any of the items on the agenda, please send an email to: erac@ee.doe.gov. In the email, please indicate your name, organization (if appropriate), citizenship, and contact information. Please note that foreign nationals visiting DOE Headquarters are subject to advance security screening procedures. Any foreign national wishing to participate in the meeting should advise ERAC staff as soon as possible by emailing erac@ee.doe.gov to initiate the necessary procedures, but no later than Wednesday, April 4, 2012. Anyone attending the meeting will be required to present government-issued photo identification, such as a passport or driver's license.

Members of the public will be heard in the order in which they sign up for the Public Comment Period. Time allotted per speaker will depend on the number of individuals who wish to speak, but will not exceed 5 minutes. Reasonable provision will be made to include the scheduled oral statements on the agenda. The Chair of the committee will make every effort to hear the views of all interested parties and is empowered to facilitate the orderly conduct of business.

Participation in the meeting is not a prerequisite for submission of written comments. ERAC invites written comments from all interested parties. If you would like to file a written statement with the committee, you may do so either by submitting a hard or electronic copy before or after the meeting. Electronic copy of written statements should be emailed to erac@ee.doe.gov.

Minutes: The minutes of the meeting will be available for public review at www.erac.energy.gov.

Issued in Washington, DC, on March 9, 2012.
LaTanya R. Butler,
Acting Deputy Committee Management Officer.

[FR Doc. 2012-6270 Filed 3-14-12; 8:45 am]

BILLING CODE 6450-01-P